DEPARTMENT OF DEFENSE

Office of the Secretary

[Transmittal No. 24-109]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-109, Policy Justification, and Sensitivity of Technology.

Dated: December 9, 2025.
Stephanie J. Bost,
Alternate OSD Federal Register Liaison Officer, Department of Defense.

BILLING CODE 6001-FR-P

Transmittal No. 24-109

Notice of Proposed Issuance of Letter of Offer Pursuant to Section 36(b)(1) of the Arms Export Control Act, as amended

(i) Prospective Purchaser: Government of Romania

(ii) Total Estimated Value:

Major Defense Equipment * | $ 70 million
Other | $ 40 million
TOTAL | $110 million

Funding Source: National Funds and Foreign Military Financing (including Ukraine Supplemental Appropriations Act funding (USAA))

(iii) Description and Quantity or Quantities of Articles or Services under Consideration for Purchase:

Major Defense Equipment (MDE):

Four (4) AN/MPQ-64 F1 Sentinel radar systems

Non-Major Defense Equipment:

The following non-MDE items will also be included: IPS-250X High Assurance internet Protocol Encryptors (HAIPE); KIV-77 Identification Friend-or-Foe (IFF) crypto appliqué with Mode 5 and Mode S capability; AN/PSN-13 Defense Advanced Global Positioning System (GPS) Receivers (DAGR) with Selective Availability Anti-Spoofing Module (SAASM); AN/PYQ-10 Simple Key Loaders (SKL); support equipment; spare and repair parts, consumables, accessories and repair and return support; classified software; classified command and control (C2) systems and communications and data supply systems; prime movers; new equipment training; weapon system support and test equipment; publications and technical documentation; personnel training and training equipment; classified software; classified books and publications; United States (U.S.) Government and contractor engineering, technical, and logistics support services; and other related elements of logistics and program support.

(iv) Military Department: Army (RO-B-UGX)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 7, 2024

* as defined in Section 47(6) of the Arms Export Control Act.

POLICY JUSTIFICATION

Romania—Sentinel Radar Systems

The Government of Romania has requested to buy four (4) AN/MPQ-64 F1 Sentinel radar systems. The following non-MDE items will also be included: IPS-250X High Assurance Internet Protocol Encryptors (HAIPE); KIV-77 Identification Friend-or-Foe (IFF) crypto appliqué with Mode 5 and Mode S capability; AN/PSN-13 Defense Advanced Global Positioning System (GPS) Receivers (DAGR) with Selective Availability Anti-Spoofing Module (SAASM); AN/PYQ-10 Simple Key Loaders (SKL); support equipment; spare and repair parts, consumables, accessories and repair and return support; classified software; classified command and control (C2) systems and communications and data supply systems; prime movers; new equipment training; weapon system support and test equipment; publications and technical documentation; personnel training and training equipment; classified software; classified books and publications; U.S. Government and contractor engineering, technical, and logistics support services; and other related elements of logistics and program support. The estimated total cost is $110 million.

This proposed sale will support the foreign policy goals and national security objectives of the United States by improving the security of a NATO Ally that is a force for political stability and economic progress in Europe.

The proposed sale will improve Romania's capability to meet current and future threats by providing a credible force that is capable of deterring adversaries and participating in NATO operations. Romania will have no difficulty absorbing this equipment into its armed forces.

The proposed sale of this equipment and support will not alter the basic military balance in the region.

The principal contractor will be RTX Corporation, located in Andover, MA. There are no known offset agreements in connection with this potential sale.

Implementation of this proposed sale will require approximately five U.S. Government and five U.S. contractor representatives to travel to Romania for a duration of up to five years to support equipment fielding and training.

There will be no adverse impact on U.S. defense readiness as a result of this proposed sale.

Transmittal No. 24-109

Notice of Proposed Issuance of Letter of Offer Pursuant to Section 36(b)(1) of the Arms Export Control Act

Annex

Item No. vii

(vii) Sensitivity of Technology:

1. The AN/MPQ-64F1 Sentinel radar's detection range, mobility and 360-degree azimuth coverage allow it to support short or medium range air defense weapons located throughout the battle area. Sentinel acquires, tracks, and reports cruise missiles, unmanned aerial systems, and fixed and rotary wing aircraft in environments with electronic countermeasures or other complex challenges. The Sentinel F1 radar provides track data and status messages to and receives commands from the Fire Distribution Center (FDC) over the Remote Radar Data Link (RRDL). The Data Link Terminal provides the hardware connection between the radar's output panel and the FDC communication media.

2. The Sentinel radar also supports target identification by means of an integrated Identification Friend-or-Foe (IFF) system. The IFF system interrogates targets and threats automatically or as directed by the operator, and the results are automatically correlated within the radar. The radar contains operational software with specific electronic counter-countermeasures capability designed to counter electronic attack.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Romania can provide substantially the same degree of protection for the sensitive technology being released as the U.S. Government. This proposed sale is necessary in furtherance of the U.S. foreign policy and national security objectives outlined in the Policy Justification.

6. All defense articles and services listed in this transmittal have been authorized for release and export to the Government of Romania.

[FR Doc. 2025-22597 Filed 12-11-25; 8:45 am]

BILLING CODE 6001-FR-P